DEPARTMENT OF ENERGY

Federal Energy Regulatory Commission

Notice of Effectiveness of Exempt Wholesale Generator and Foreign Utilty Company Status

TG High Prairie, LLC | EG19-16-000
Bridgewater Power Company, L.P | EG19-17-000
Peony Solar LLC | EG19-18-000
Marengo Energy Storage | EG19-19-000
KCE NY 1, LLC | EG19-20-000
DG Whitefield LLC | EG19-21-000
Springfield Power, LLC | EG19-22-000
Antelope DSR 3, LLC | EG19-23-000
San Pablo Raceway, LLC | EG19-24-000
Calpine Gilroy Cogen, L.P | EG19-25-000
Solomon Forks Wind Project, LLC | EG19-26-000
LUZ Solar Partners VIII, Ltd | EG19-27-000
LUZ Solar Partners IX, Ltd | EG19-28-000
Ibereolica Solar Moron, S.L.U | FC19-1-000

Take notice that during the month of January 2019, the status of the above-captioned entities as Exempt Wholesale Generators or Foreign Utility Companies became effective by operation of the Commission's regulations. 18 CFR 366.7(a) (2018).

Dated: February 6, 2019.
Nathaniel J. Davis, Sr.,
Deputy Secretary.

[FR Doc. 2019-02080 Filed 2-11-19; 8:45 am]

BILLING CODE 6717-01-P